DEPARTMENT OF ENERGY

Notice of Intent Regarding Bipartisan Infrastructure Law Support for Resilient and Efficient Building Energy Code Implementation

AGENCY: Office Energy Efficiency and Renewable Energy, Building Technologies Office, Department of Energy (DOE).

ACTION: Notice of intent.

SUMMARY: The U.S. Department of Energy (DOE) issued a Notice of Intent (NOI) to issue a Funding Opportunity Announcement (FOA) entitled “Building Energy Codes, Resilient and Efficient Codes Implementation” in accordance with the Bipartisan Infrastructure Law (BIL). The aim of this anticipated FOA is to support successful, widespread, and sustained implementation of updated building energy codes by states, local governments, and across the U.S. and range of affected stakeholders.

DATES: The NOI was issued on July 21, 2022.

ADDRESSES: The NOI was issued via the EERE Exchange ¹ system available at https://eere-exchange.energy.gov/.

¹ The DOE Office of Energy Efficiency & Renewable Energy (EERE) issues funding opportunities and related announcements through the EERE Funding Opportunity Exchange system.

FOR FURTHER INFORMATION CONTACT: Jeremy Williams, (202) 441-1288, jeremy.williams@ee.doe.gov. Further information is available at https://www.energycodes.gov/RECI-codes-workshop.

SUPPLEMENTARY INFORMATION: Section 40511 of the BIL ² provides $225 million in funding supporting resilient and efficient building codes, and directs the Secretary of Energy to establish a competitive program enabling sustained cost-effective implementation of updated building energy codes. In accordance with Section 40511, DOE intends to issue a Funding Opportunity Announcement (FOA) entitled “Building Energy Codes, Resilient and Efficient Codes Implementation”. The aim of this anticipated FOA is to support successful, widespread and sustained implementation of updated building energy codes by states, local governments, and across the U.S. and range of affected stakeholders. More information is available via the DOE Building Energy Codes Program at https://www.energycodes.gov/RECI-codes-workshop.

² Infrastructure Investment and Jobs Act, Public Law 117-58 (November 15, 2021). https://www.congress.gov/bill/117th-congress/house-bill/3684. This NOI uses the more common name “Bipartisan Infrastructure Law”.

DOE previously published, on April 18, 2022, in the Federal Register a request for information (RFI) (DE-FOA-0002755) and held a public workshop related to Section 40511 of the BIL preceding this Notice. See 87 FR 22874. Through the RFI, DOE requested public input regarding the solicitation process and structure of a potential FOA, considering a range of issues and approaches which enable sustained, cost-effective implementation of updated building energy codes, and in accordance with Section 40511. The RFI was issued on April 12, 2022, and associated public workshop was held on April 27, 2022. More information is available at: https://www.energycodes.gov/RECI-codes-workshop.

Signing Authority

This document of the Department of Energy was signed on July 21, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 21, 2022.
Treena V. Garrett,
Federal Register Liaison Officer, U.S. Department of Energy.

[FR Doc. 2022-15976 Filed 7-25-22; 8:45 am]

BILLING CODE 6450-01-P